ENVIRONMENTAL PROTECTION AGENCY

[FRL-9908-22-Region-6]

Clean Air Act Operating Permit Program; Petitions for Objection To State Operating Permits for Consolidated Environmental Management, Inc.—Nucor Steel Louisiana

AGENCY: Environmental Protection Agency (EPA).

ACTION: Notice of final action.

SUMMARY: Pursuant to Clean Air Act (CAA) Section 505(b)(2) and 40 CFR 70.8(d), the EPA Administrator signed an Order, dated January 30, 2014, partially granting and partially denying three petitions asking EPA to object to operating permits (Permit Numbers 2560-00281-V0, 2560-00281-V1, and 3086-V0) issued by the Louisiana Department for Environmental Quality (LDEQ) to Consolidated Environmental Management, Inc.—Nucor Steel Louisiana (Nucor) relating to a facility located near Convent, Saint James Parish, Louisiana. Pursuant to CAA Section 505(b)(2) and 40 CFR 70.8(d), the EPA Administrator also signed an Order, dated June 19, 2013, denying one issue (“Specific Objection I”) raised in two of those petitions. Together, EPA's June 19, 2013 Order and January 30, 2014 Order respond to the three petitions submitted by Louisiana Environmental Action Network and Sierra Club (collectively, the Petitioners on June 25, 2010 (the 2010 Petition), May 3, 2011 (the 2011 Petition) and October 3, 2012 (the 2012 Petition), respectively. Sections 307(b) and 505(b)(2) of the Act provide that a petitioner may ask for judicial review of those portions of the Orders that deny objections raised in the petitions by the United States Court of Appeals for the appropriate circuit. Any petition for review shall be filed within 60 days from the date this notice appears in the Federal Register, pursuant to section 307(b) of the Act.

ADDRESSES: You may review copies of the final Orders, the petitions, and other supporting information at EPA Region 6, 1445 Ross Avenue, Dallas, Texas 75202-2733.

EPA requests that if at all possible, you contact the individual listed in the FOR FURTHER INFORMATION CONTACT section to view copies of the final Orders, petitions, and other supporting information. You may view the hard copies Monday through Friday, from 9:00 a.m. to 3:00 p.m., excluding Federal holidays. If you wish to examine these documents, you should make an appointment at least 24 hours before the visiting day. Additionally, the final June 19, 2013 Order and January 30, 2014 Orders are available electronically at: http://www.epa.gov/Region7/air/title5/petitiondb/petitions/nucor_steel_partialresponse2011.pdf and http://www.epa.gov/Region7/air/title5/petitiondb/petitions/nucor_steel_response2012.pdf, respectively.

FOR FURTHER INFORMATION CONTACT: Dinesh Senghani at (214) 665-7221, email address: senghani.dinesh@epa.gov or the above EPA, Region 6 address.

SUPPLEMENTARY INFORMATION: The CAA affords EPA a 45-day period to review, and object, as appropriate, to a title V operating permit proposed by a state permitting authority. Section 505(b)(2) of the CAA authorizes any person to petition the EPA Administrator, within 60 days after the expiration of this review period, to object to a title V operating permit if EPA has not done so. Petitions must be based only on objections to the permit that were raised with reasonable specificity during the public comment period provided by the state, unless the petitioner demonstrates that it was impracticable to raise these issues during the comment period or unless the grounds for the issue arose after this period.

EPA received three petitions from the Petitioners, dated June 25, 2010, May 3, 2011, and October 3, 2012, to object to operating permits issued to Consolidated Environmental Management, Inc.—Nucor Steel Louisiana relating to a facility located near Convent, Saint James Parish, Louisiana.

The 2010 Petition requested that the Administrator object to a Nucor operating permit (Permit Number 2560-00281-V0) on the basis that: (1) The permit fails to apply the appropriate maximum achievable control technology (MACT) standards; (2) the modeling submitted by Nucor to support its PSD analysis is flawed, and (3) the title V permit fails to incorporate conditions sufficient to assure compliance with PSD. The 2011 Petition requested that the Administrator object to two Nucor operating permits (Permit Numbers 2560-00281-V1 and 3086-V0) on the following bases: (1) LDEQ failed to aggregate PSD permitting for emissions from the entire facility (this issue is also known as “Specific Objection I” in this matter); (2) the modified pig iron permit fails to apply MACT standards for the topgas boilers; (3) LDEQ failed to include emission limits for particulate matter less than 2.5 microns; (4) the limit for natural gas consumption is not the best available control technology for greenhouse gas (GHG) emissions from the Direct Reduced Iron (DRI) process; and (5) the DRI permits must specify procedures estimating GHG emissions. The 2012 Petition requested that the Administrator object to the Nucor operating permits for the reasons expressed in the 2010 and 2011 Petitions, which were incorporated by reference and attached to the 2012 Petition.

On June 19, 2013, the Administrator issued a partial Order denying Specific Objection I of the 2011 Petition and as re-raised in the 2012 Petition. On January 30, 2014, the Administrator issued an Order partially granting and partially denying the 2010, 2011, and 2012 Petitions, (except Specific Objection I). These Orders explain the reasons behind EPA's conclusion to grant in part and deny in part these three petitions. Together, the June 19, 2013 Order and January 30, 2014 Order address all the objections originally raised in the 2010 Petition and the 2011 Petition, which were all re-raised in the 2012 Petition, as well as addressing the claims in the 2012 Petition.

Dated: March 7, 2014.
Ron Curry,
Regional Administrator, Region 6.

[FR Doc. 2014-06224 Filed 3-20-14; 8:45 am]

BILLING CODE 6560-50-P